EXECUTIVE OFFICE OF THE PRESIDENT

Office of National Drug Control Policy

Emergency Clearance: Public Information Collection Requirements Submitted to the Office of Management and Budget (OMB)

AGENCY: Executive Office of the President, Office of National Drug Control Policy

In compliance with the requirement of section 3506(c)(2)(A) of the Paperwork Reduction Act of 1995, the Executive Office of the President, Office of National Drug Control Policy, is publishing the following summary of proposed information collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. We cannot reasonably comply with the normal clearance procedures because of the urgent need for this critical information in the formulation of ONDCP's major national policy initiative regarding student drug testing beginning fiscal year 2004. ONDCP's formulation of its national policy initiative regarding student drug testing will rely heavily on the data collected through this effort.

Executive Office of the President, Office of National Drug Control Policy is requesting OMB review and approval of this information collection thirty two days from the date of publication, with an 180-day approval period. Written comments and recommendations will be accepted from the public if received by the individuals designated below within 30 days from the date of publication.

Type of Information Collection Request: New collection;

Title of Information Collection: Survey—Identifying Public/Private Schools Currently Operating School Drug Testing Programs in 25 Cities Across the U.S;

Use: To identify schools or school districts that currently conduct student drug testing programs, and to assess the common characteristics of existing programs;

Frequency: Onetime reporting;

Affected Public: State, Local, or Tribal Government, not-for-profit institutions;

Number of Respondents: 4368;

Total Annual Responses: 4368;

Total Annual Hours: 1092.

We have submitted a copy of this notice to OMB for its review of these information collections.

To obtain copies of the supporting statement and any related forms for the proposed paperwork collections referenced above you may:

• Access the Office of National Drug Control Policy Web site address at http://www.whitehousedrugpolicy.gov/prevent/survey; or

• Call the Office of National Drug Control Policy, Office of Planning and Budget on (202) 395-6736.

Interested persons are invited to send comments regarding the burden or any other aspect of these collections of information requirements. However, as noted above, comments on these information collection and/or recordkeeping requirements must be mailed and/or faxed to the designees referenced below, within 30 days from the date of publication:

Executive Office of the President, Office of National Drug Control Policy, Office of Planning and Budget, Attention: Terry S. Zobeck, Ph.D., Acting Deputy Associate Director for Planning and Budget, Washington, DC 20503, Fax Number: (202) 395-5571.

And, Office of Information and Regulatory Affairs, Office of Management and Budget, Washington, DC 20503, Fax Number: (202) 395-6974 or (202) 395-5167, Attn: Allison Eydt, Desk Officer.

Dated: June 16, 2003.
Terry S. Zobeck,
Acting Deputy Associate Director for Planning and Budget, Office of National Drug Control Policy.

1

[FR Doc. 03-15575 Filed 6-17-03; 1:06 pm]

BILLING CODE 3180-02-P